DEPARTMENT OF HEALTH AND HUMAN SERVICES

Health Resources and Services Administration

White House Initiative on Asian Americans and Pacific Islanders President's Advisory Commission; Notice of Meeting

In accordance with section 10(a)(2) of the Federal Advisory Committee Act (Public Law 92-463), announcement is made of the following National Advisory body scheduled to conduct a public meeting during the month July 2000.

Name: President's Advisory Commission on Asian Americans and Pacific Islanders (AAPIs).

Date and Time: July 24, 2000; 9:00 a.m.-7:00 p.m. PDT and July 25, 2000; 9:00 a.m.-1:00 p.m. PDT.

Place: Los Angeles County Hall of Administration, 822 Kenneth Hahn Hall of Administration, 500 West Temple Street, Los Angeles, CA 90012.

The President's Advisory Commission on AAPIs will conduct a public meeting on July 24, from 9:00 a.m. to 7:00 p.m. PDT inclusive, and subsequent meeting on July 25, from 9:00 a.m. to 2:00 p.m. PDT inclusive. The meeting is open to the public.

Agenda items will include, but are not limited to: testimony from community organizations and individuals; approval of June conference call minutes; reports and recommendations from Commissioners and subcommittees; administrative tasks; and upcoming events.

The purpose of the Commission is to advise the President on the issues facing Asian Americans and Pacific Islanders (AAPIs). The President's Advisory Commission on AAPIs will be seated through June 7, 2001.

Requests to address the Commission on July 24 must be made in writing and should include the name, address, telephone number and business or professional affiliation of the interested party. Individuals or groups addressing similar issues are encouraged to combine comments and present through a single representative. The allocation of time for remarks may be adjusted to accommodate the level of expressed interest. Written requests should be faxed to: (301) 443-0259.

Anyone who has interest in joining any portion of the meeting or who requires additional information about the Commission should contact: Mr. Tyson Nakashima, Office of the White House Initiative on AAPIs, Parklawn Building, Room 10-42, 5600 Fishers Lane, Rockville, MD, 20857, Telephone (301) 443-2492. Anyone who requires special assistance, such as sign language interpretation, foreign language interpretation or other reasonable accommodations, should contact Mr. Nakashima no later than July 14, 2000.

Dated: July 6, 2000.
Jane M. Harrison,
Director, Division of Policy Review and Coordination.

[FR Doc. 00-17525 Filed 7-11-00; 8:45 am]

BILLING CODE 4160-15-P